DEPARTMENT OF AGRICULTURE

Food Safety and Inspection Service

[Docket No. FSIS-2007-0034]

Codex Alimentarius Commission: First Session of the Codex Ad Hoc Intergovernmental Task Force on Antimicrobial Resistance

AGENCY: Office of the Under Secretary for Food Safety, USDA.

ACTION: Notice of public meeting.

SUMMARY: The Office of the Under Secretary for Food Safety, United States Department of Agriculture (USDA), and the Food and Drug Administration (FDA) are sponsoring a public meeting on September 24, 2007, to discuss the agenda items coming before the First Session of the Codex Ad Hoc Intergovernmental Task Force on Antimicrobial Resistance (AMR) and to present draft U.S. positions on the agenda items. The First Session on AMR will be held in Seoul, Korea, October 23-26, 2007. The Under Secretary and FDA recognize the importance of providing interested parties the opportunity to comment on the agenda items that will be discussed at this forthcoming session on AMR.

DATES: The public meeting is scheduled for Monday, September 24, 2007, from 2 p.m. to 4 p.m.

ADDRESSES: The public meeting will be held in Room 107A Whitten Building, 1400 Independence Avenue, SW., Washington, DC (Please enter USDA at the Whitten Building Entrance. If taking Metro, exit on the Mall side of the Smithsonian stop).

Documents related to the First Session of the AMR Task Force will be accessible via the World Wide Web at the following address: http://www.codexalimentarius.net/current.asp.

For Further Information About the First Session on AMR Contact: U.S. Delegate, Dr. David White, Director, National Antimicrobial Resistance Monitoring System (NARMS), FDA, Center for Veterinary Medicine, Office of Research, 8401 Muirkirk Rd., Laurel, MD 20798, Tel: (301) 210-4181, E-mail: david.white@fda.hhs.gov.

For Further Information About the Public Meeting Contact: Edith Kennard, Staff Officer, U.S. Codex Office, Food Safety and Inspection Service (FSIS), Room 4861, South Building, 1400 Independence Avenue, SW., Washington, DC 20250, Phone: (202) 720-5261, Fax: (202) 720-3157, E-mail: edith.kennard@fsis.usda.gov.

SUPPLEMENTARY INFORMATION:

Background

The Codex Alimentarius (Codex) was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The Codex Ad Hoc Intergovernmental Task Force on Antimicrobial Resistance was established by the 29th Session of the Codex Alimentarius Commission in 2006. The Task Force is to develop science-based guidance to assess the risks to human health associated with the presence in food and feed (including aquaculture) of antimicrobial resistant microorganisms and antimicrobial resistance genes and the transmission through food and feed of antimicrobial resistant microorganisms and antimicrobial resistance genes. The Task Force is also to develop appropriate risk management advice based on that assessment to reduce such risk. The Task Force, which is hosted by the Republic of Korea, is to complete its work within four sessions.

Issues To Be Discussed at the Public Meeting

The following items on the agenda for the First Session on AMR will be discussed during the September 24, 2007, public meeting:

• Matters Referred to the Committee from Other Codex Bodies.

• Review of the Work by FAO, WHO and the World Organisation for Animal health (OIE) on Antimicrobial Resistance.

• Consideration of the Elaboration of Standards, Guidelines or Other Texts on Antimicrobial Resistance (comments submitted in response to Circular Letter 2006/38-AMR).

Each issue listed will be fully described in documents distributed, or to be distributed, by the Korean Secretariat to the Meeting. Members of the public may access copies of these documents at http://www.codexalimentarius.net/current.asp.

Public Meeting

At the September 24, 2007, public meeting, draft U.S. positions on these agenda items will be described and discussed, and attendees will have the opportunity to pose questions and offer comments. Written comments may be offered at the meeting or sent to the U.S. Delegate on AMR, Dr. David White, at david.white@fda.hhs.gov. Written comments should state that they relate to activities of the First Session of the Task Force on AMR.

Additional Public Notification

Public awareness of all segments of rulemaking and policy development is important. Consequently, in an effort to ensure that minorities, women, and persons with disabilities are aware of this notice, FSIS will announce it online through the FSIS Web page located at http://www.fsis.usda.gov/regulations/2007_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through Listserv and the Web page, FSIS is able to provide information to a much broader and more diverse audience. In addition, FSIS offers an electronic mail subscription service which provides automatic and customized access to selected food safety news and information. This service is available at http://www.fsis.usda.gov/news_and_events/email_subscription. Options range from recalls to export information to regulations, directives and notices. Customers can add or delete subscriptions themselves and have the option to password protect their account.

Done at Washington, DC on: September 17, 2007.
F. Edward Scarbrough,
U.S. Manager for Codex Alimentarius.

[FR Doc. E7-18719 Filed 9-20-07; 8:45 am]

BILLING CODE 3410-DM-P